DEPARTMENT OF AGRICULTURE

Forest Service

DEPARTMENT OF THE INTERIOR

Fish and Wildlife Service

Alaska Federal Subsistence Regional Advisory Council Meeting

AGENCY: Forest Service, USDA; Fish and Wildlife Service, Interior.

ACTION: Notice of meeting.

SUMMARY: Alaska Federal Subsistence Regional Advisory Councils will be meeting as a group to review fisheries resource monitoring plans. You are invited to attend and observe meeting proceedings. In addition, you may provide oral testimony on these proposed projects. The Regional Council agendas include: Introduction of Regional Council members and guests; Summary of FY 2000 fisheries resource monitoring projects; Review of draft FY 2001 fisheries resource monitoring projects.

DATES: Federal Subsistence Regional Advisory Councils will meet at the Anchorage Marriott Downtown, 820 West 7th Avenue, Anchorage, Alaska, starting at 8:30 a.m. on February 6, 2001, and at 9 a.m. on February 7, 2001.

FOR FURTHER INFORMATION CONTACT: Chair, Federal Subsistence Board, c/o Thomas H. Boyd, Office of Subsistence Management, U.S. Fish and Wildlife Service, 3601 C Street, Suite 1030, Anchorage, Alaska 99503; telephone (907) 786-3888. For questions related to subsistence management issues on National Forest Service lands, you may direct your inquiries to Ken Thompson, Regional Subsistence Program Manager, USDA, Forest Service, Alaska Region, 3601 C Street, Suite 1030, Anchorage, Alaska 99503; telephone (907) 786-3592.

SUPPLEMENTARY INFORMATION: The Regional Councils were established in accordance with Section 805 of the Alaska National Interest Lands Conservation Act, Public Law 96-487, and Subsistence Management Regulations for Public Lands in Alaska, 36 CFR Part 242 and 50 CFR Part 100, Subparts, A, B, and C (64 FR 1276). The Regional Councils advise the Federal Government on all matters related to the subsistence taking of fish and wildlife on public lands in Alaska and operate in accordance with provisions of the Federal Advisory Committee Act.

The Regional Council meeting is open to the public. You are invited to attend this meeting observe the proceedings, and provide comments to the Regional Councils. The Regional Councils will be briefed on the draft FY2001 fisheries resource monitoring projects and will develop their recommendations to the Federal Subsistence Board. You can find additional information regarding the draft FY2001 fisheries resource monitoring projects on our website at http://www.r7.fws.gov/asm/home.html. You may provide testimony from approximately 9:45-11 a.m. each day. For further information, in addition to the contacts listed above, you may also contact Luise Woelflein by email at luise_woelflein@fws.gov. For special accommodations and teleconferencing information, contact the Office of Subsistence Management at least 72 hours before the meeting. TTY users may call through the Federal Relay Service at 1-800-877-8339.

Dated: January 11, 2001.
Kenneth E. Thompson,
Regional Subsistence Program Manager, USDA—Forest Service.
Thomas H. Boyd,
Acting Chair, Federal Subsistence Board.

[FR Doc. 01-1955 Filed 2-6-01; 3:49 pm]

BILLING CODE 4310-55-M